SECURITIES AND EXCHANGE COMMISSION

[Release No. 34-48407A; File No. SR-NASD-00-08]

Self-Regulatory Organizations; Order Approving Proposed Rule Change and Notice of Filing and Order Granting Accelerated Approval of Amendment Nos. 1 and 2 by the National Association of Securities Dealers, Inc. Relating to Margin Requirements; Correction

February 5, 2004.

Release No. 34-48407 (the “Release”), issued on August 25, 2003, and published in the Federal Register on September 2, 2003,¹ contained an error in Part IV.² Specifically, Part IV of the Release stated that “the definition of exempt account is limited to certain regulated entities as well as to persons with net worth of at least $40 million and financial assets of at least $45 million” and that met other specified requirements. The financial requirement for exempt accounts was stated incorrectly and should indicate that an “exempt account” includes any person that has net worth of at least $45 million and financial assets of at least $40 million. Accordingly, Part IV of the Release should be revised to state that “the definition of exempt account is limited to certain regulated entities as well as to persons with net worth of at least $45 million and financial assets of at least $40 million” and that meets the other requirements for exempt accounts specified in the Release.

¹ See 68 FR 52259.

² See 68 FR 51314, 51315 and 51316.

For the Commission, by the Division of Market Regulation, pursuant to delegated authority.³
³ 17 CFR 200.30-3(a)(12).
Margaret H. McFarland,
Deputy Secretary.

[FR Doc. 04-3025 Filed 2-11-04; 8:45 am]

BILLING CODE 8010-01-P